DEPARTMENT OF THE INTERIOR

Fish and Wildlife Service

[FWS-R4-ES-2023-0048; FXES11130400000EA-123-FF04EF1000]

Receipt of Incidental Take Permit Application and Proposed Habitat Conservation Plan for the Alabama Beach Mouse, Baldwin County, AL; Categorical Exclusion

AGENCY: Fish and Wildlife Service, Interior.

ACTION: Notice of availability; request for comment.

SUMMARY: We, the Fish and Wildlife Service (Service), announce receipt of an application from Sampath Srikanth (applicant) for an incidental take permit (ITP) under the Endangered Species Act. The applicant requests the ITP to take the federally listed Alabama beach mouse (Peromyscus polionotus ammobates) incidental to construction on Fort Morgan Peninsula, Baldwin County, Alabama. We request public comment on the application, which includes the applicant's proposed habitat conservation plan (HCP), and the Service's preliminary determination that the proposed permitting action may be eligible for a categorical exclusion pursuant to the Council on Environmental Quality's National Environmental Policy Act (NEPA) regulations, the Department of the Interior's (DOI) NEPA regulations, and the DOI Departmental Manual. To make this preliminary determination, we prepared a draft environmental action statement and low-effect screening form, both of which are also available for public review. We invite comment from the public and local, State, Tribal, and Federal agencies.

DATES: We must receive your written comments on or before May 8, 2023.

ADDRESSES: Obtaining Documents: You may obtain copies of the documents online in Docket No. FWS-R4-ES-2023-0048 at https://www.regulations.gov.

Submitting Comments: If you wish to submit comments on any of the documents, you may do so in writing by any of the following methods:

• Online: https://www.regulations.gov. Follow the instructions for submitting comments on Docket No. FWS-R4-ES-2023-0048.

• U.S. mail: Public Comments Processing; Attn: Docket No. FWS-R4-ES-2023-0048; U.S. Fish and Wildlife Service; MS: PRB/3W; 5275 Leesburg Pike; Falls Church, VA 22041-3803.

FOR FURTHER INFORMATION CONTACT: Mr. William Lynn, Project Manager, by U.S. mail (see ADDRESSES), via telephone at 251-441-5868, or by email at william_lynn@fws.gov. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: We, the Fish and Wildlife Service (Service), announce receipt of an application from Sampath Srikanth (applicant) for an incidental take permit (ITP) under the Endangered Species Act of 1973, as amended (ESA; 16 U.S.C. 1531 et seq.). The applicant requests the ITP to take the federally endangered Alabama beach mouse (ABM; Peromyscus polionotus ammobates) incidental to the construction of a single-family home (project) on Fort Morgan Peninsula, Baldwin County, Alabama. We request public comment on the application, which includes the applicant's proposed habitat conservation plan (HCP), and the Service's preliminary determination that this proposed ITP qualifies as “low effect,” and may qualify for a categorical exclusion pursuant to the Council on Environmental Quality's National Environmental Policy Act (NEPA) regulations (40 CFR 1501.4), the Department of the Interior's (DOI) NEPA regulations (43 CFR 46), and the DOI's Departmental Manual (516 DM 8.5(C)(2)). To make this preliminary determination, we prepared a draft environmental action statement and low-effect screening form, both of which are also available for public review.

Proposed Project

The applicant requests a 25-year ITP to take ABM by converting approximately 0.079 acre (ac) of occupied ABM foraging and sheltering habitat incidental to the construction of a single-family home located on a 0.492-ac parcel within the Government Subdivision #1, located on the central portion of Fort Morgan Peninsula in Baldwin County, Alabama. The proposed use of the parcel will provide for a compressed development footprint, which allows for areas of contiguous habitat to remain post development. Landforms and vegetative communities on the parcel consist of 0.418 ac of secondary dune ABM habitat. The applicant would impact 0.079 ac of the occupied 0.418 ac of ABM habitat in constructing the single-family home. The remaining 0.34 ac of suitable habitat on the parcel will be enhanced and perpetually maintained. The applicant proposes to donate a $2.30-per-square-foot in-lieu fee totaling $7,921 to the Alabama Coastal Heritage Trust (ACHT) for the 0.079-ac impact. ACHT will use the donation to manage, maintain, or acquire ABM habitat within Fort Morgan or elsewhere within the range of the ABM.

The applicant also proposes to implement standard minimization and mitigation measures to retain habitat within all areas outside the core footprint of the residence and, where possible, augment such habitat with native landscaping and topographic enhancement methods. The standard mitigation and minimization measures to be implemented on the site include installing sea turtle-friendly lighting and tinted windows, landscaping with native vegetation, enhancing the frontal dune area, constructing a concrete driveway that will not disperse in a storm surge, implementing refuse-control measures during construction and requiring that future residents utilize such measures, and restoring ABM habitat after tropical storms. Free-roaming cats and the use of exterior rodenticide will be prohibited within the parcel. Post-construction ABM habitat on site should total 0.34 ac of the 0.49-ac parcel. The Service would require the applicant to donate the total contribution to ACHT prior to engaging in any construction activities on the parcel that are associated with the project.

Public Availability of Comments

Before including your address, phone number, email address, or other personal identifying information in your comment, be aware that your entire comment—including your personal identifying information—may be made available to the public. While you may request that we withhold your personal identifying information, we cannot guarantee that we will be able to do so.

Our Preliminary Determination

The Service has made a preliminary determination that the applicant's proposed project, including land clearing, infrastructure building, and landscaping, and the proposed mitigation and minimization measures, would individually and cumulatively have a minor effect on the Alabama beach mouse and the human environment. Therefore, we have preliminarily determined that the proposed ESA section 10(a)(1)(B) permit would be a “low-effect” ITP that individually or cumulatively would have a minor effect on the ABM and may qualify for application of a categorical exclusion pursuant to the Council on Environmental Quality's NEPA regulations, DOI's NEPA regulations, and the DOI Departmental Manual. A “low-effect” incidental take permit is one that would result in (1) minor or negligible effects on species covered in the HCP; (2) nonsignificant effects on the human environment; and (3) impacts that, when added together with the impacts of other past, present, and reasonably foreseeable actions, would not result in significant cumulative effects to the human environment.

Next Steps

The Service will evaluate the application and the comments received to determine whether to issue the requested ITP. We will also conduct an intra-Service consultation pursuant to section 7 of the ESA to evaluate the effects of the proposed take on the species. We will consider all of the above in determining whether the permit issuance criteria of section 10(a)(l)(B) of the ESA have been met. If met, the Service will issue ITP number PER0271956 to Sampath Srikanth.

Authority

The Service provides this notice under section 10(c) of the ESA (16 U.S.C. 1531 et seq.) and its implementing regulations (50 CFR 17.32) and NEPA (42 U.S.C. 4321 et seq.) and its implementing regulations (40 CFR 1500-1508 and 43 CFR 46).

William J. Pearson,
Field Supervisor, Alabama Ecological Service Field Office.

[FR Doc. 2023-07356 Filed 4-6-23; 8:45 am]

BILLING CODE 4333-15-P